DEPARTMENT OF STATE

[Public Notice 7562]

Privacy Act; System of Records: State-76, Personal Services Contractor Records

SUMMARY: Notice is hereby given that the Department of State proposes to create a new system of records, Personal Services Contractor Records, State-76, pursuant to the provisions of the Privacy Act of 1974, as amended (5 U.S.C. 552a) and Office of Management and Budget Circular No. A-130, Appendix I. The Department's report was filed with the Office of Management and Budget on July 20, 2011.

It is proposed that the new system be named “Personal Services Contractor Records.” It is also proposed that the new system description will document personal services contract record files, reports of contractor actions, and the documents required in connection with the contractor during his or her employment. Any persons interested in commenting on the new system of records may do so by writing to the Director, Office of Information Programs and Services, A/GIS/IPS, Department of State, SA-2, 515 22nd Street, Washington, DC 20522-8001. This system of records will be effective 40 days from the date of publication, unless we receive comments that will result in a contrary determination.

The new system description, “Personal Services Contractor Records, State-76,” will read as set forth below.

Dated: July 20, 2011.
William H. Moser,
Acting Assistant Secretary, Bureau of Administration, U.S. Department of State.

STATE-76

SYSTEM NAME:

Personal Services Contractor Records.

SECURITY CLASSIFICATION:

Unclassified.

SYSTEM LOCATION:

Records are maintained at those offices that have personal services contractor hiring authority and their corresponding automated data processing facilities.

CATEGORIES OF INDIVIDUALS COVERED BY THE SYSTEM:

All personal services contractors with the Department of State.

CATEGORIES OF RECORDS IN THE SYSTEM:

1. Contractor Personnel File: Name, Social Security number, address, résumés, clearance level, pay grade, salary, contract number, position title, and position number.

2. Contract Actions: Salary worksheet computation(s), statement of work, superior qualifications approval memo, final letter of offer, copies of contract, performance evaluation form(s), correspondences, advanced leave request(s), and certificate(s) of training.

3. Contract Termination: Contractor's release form and out-processing checklist.

AUTHORITY FOR MAINTENANCE OF THE SYSTEM:

22 U.S.C. 2669(c).

PURPOSE:

To keep a record of personal services contractors; to document personal services contract record files, reports of contractor actions, and the documents required in connection with the contractor during his or her employment.

ROUTINE USES OF RECORDS MAINTAINED IN THE SYSTEM, INCLUDING CATEGORIES OF USERS AND PURPOSES OF SUCH USES:

The Department of State periodically publishes in the Federal Register its standard routine uses that apply to all of its Privacy Act systems of records. These notices appear in the form of a Prefatory Statement. These standard routine uses apply to Personal Services Contractor Records, State-76.

DISCLOSURE TO CONSUMER REPORTING AGENCIES:

None.

POLICIES AND PRACTICES FOR STORING, RETRIEVING, ACCESSING, RETAINING AND DISPOSING OF RECORDS IN THE SYSTEM:

STORAGE:

Paper and electronic records.

RETRIEVABILITY:

By individual name or Social Security number (SSN).

SAFEGUARDS:

All users are given cyber security awareness training which covers the procedures for handling Sensitive But Unclassified information, including personally identifiable information (PII). Annual refresher training is mandatory. In addition, all Foreign Service, all Civil Service, and those Locally Engaged Staff who handle PII are required to take an FSI distance learning course instructing employees on privacy and security requirements, including the rules of behavior for handling PII and the potential consequences if it is handled improperly. Before being granted access to Personal Services Contractor Records, a user must first be granted access to the Department of State computer system.

Remote access to the Department of State network from non-Department owned systems is authorized only through a Department approved access program. Remote access to the network is configured with the Office of Management and Budget Memorandum M-07-16 security requirements, which include but are not limited to two-factor authentication and time-out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

Records are disposed in accordance with published Department of State Records Disposition Schedules as approved by the National Archives and Records Administration (NARA). Personal Services Contractor records are transferred to a storage center and destroyed 6 years and 3 months after termination of the personal services contract. More specific information may be obtained by writing the Director, Office of Information Programs and Services, Department of State, SA-2, 515 22nd Street NW., Washington, DC 20522-8001.

SYSTEM MANAGER AND ADDRESS:

Office of the Procurement Executive (A/OPE), Department of State, SA-27, 1000 Wilson Blvd., Arlington, VA 20522.

NOTIFICATION PROCEDURES:

Individuals who have cause to believe that the Office of the Procurement Executive here might have records pertaining to them should write to the Director, Office of Information Programs and Services, Department of State, SA-2, 515 22nd Street, NW., Washington, DC 20522-8001. The individual must specify that he/she wishes the records of the Office of the Procurement Executive to be checked. At a minimum, the individual must include: Name; date and place of birth; current mailing address and zip code; signature; the approximate dates of employment with the Department of State; and the nature of such employment.

RECORD ACCESS PROCEDURES:

Individuals who wish to gain access to or amend records pertaining to themselves should write to the Director, Office of Information Programs and Services (address above).

CONTESTING RECORD PROCEDURES:

(See above).

RECORD SOURCE CATEGORIES:

These records contain information obtained directly from the individual who is the subject of these records, supervisors, and human resource staff of the bureau that employs the personal services contractor.

SYSTEMS EXEMPTED FROM CERTAIN PROVISIONS OF THE ACT:

None.

[FR Doc. 2011-21365 Filed 8-19-11; 8:45 am]

BILLING CODE 4710-24-P